DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before August 1, 2003.

ADDRESSES: Written comments should be submitted to the Chief, Endangered Species Division, Ecological Services, P.O. Box 1306, Albuquerque, New Mexico 87103. Documents and other information submitted with these applications are available for review, subject to the requirements of the Privacy Act and Freedom of Information Act. Documents will be available for public inspection, by appointment only, during normal business hours at the U.S. Fish and Wildlife Service, 500 Gold Avenue SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION: Permit No. TE-057946

Applicant: USDA, Natural Resources Conservation Service, Flagstaff, Arizona.

Applicant requests an amendment to an existing permit to allow presence/absence surveys for black-footed ferret (Mustela nigripes) within Arizona and New Mexico.

Permit No. TE-072498

Applicant: Shaw Environmental, Inc., Albuquerque, New Mexico.

Applicant requests a new permit for research and recovery purposes to conduct presence/absence surveys for the following species within Arizona and New Mexico: black-footed ferret (Mustela nigripes), southwestern willow flycatcher (Empidonax traillii extimus), northern aplomado falcon (Falco femoralis septentrionalis), and interior least tern (Sterna antillarum).

Permit No. TE-011464

Applicant: Caryn Vaughn, Norman, Oklahoma.

Applicant requests an amendment to an existing permit to allow surveys and collection of the scaleshell mussel (Leptodea leptodon) within Oklahoma and Arkansas.

Permit No. TE-054803

Applicant: Michael Larisch, Silver City, New Mexico.

Applicant requests an amendment to an existing permit to allow presence/absence surveys for the following species within New Mexico: black-footed ferret (Mustela nigripes), southwestern willow flycatcher (Empidonax traillii extimus), and interior least tern (Sterna antillarum).

Permit No. TE-073460

Applicant: Aaron Flesch, Tucson, Arizona.

Applicant requests a new permit for research and recovery purposes to conduct presence/absence surveys, nest monitoring, radio tracking, trapping, and removal of radio transmitters for cactus ferruginous pygmy owl (Glaucidium brasilianum cactorum) within Arizona.

Permit No. TE-072500

Applicant: U.S. Army Corps of Engineers, Champaign, Illinois.

Applicant requests a permit for research and recovery purposes to receive fountain darters (Etheostoma fonticola) and Texas wild-rice (Zizania texana), in order to assess the effects of fog oil and other military species chemical compounds on these species.

Authority: 16 U.S.C. 1531, et seq.

Dated: June 19, 2003.
Bryan Arroyo,
Assistant Regional Director, Ecological Services, Region 2, Albuquerque, New Mexico.

[FR Doc. 03-16684 Filed 7-1-03; 8:45 am]

BILLING CODE 4310-55-P